DEPARTMENT OF ENERGY

Advanced Scientific Computing Advisory Committee

AGENCY: Office of Science, Department of Energy.

ACTION: Notice of Open Teleconference Meeting.

SUMMARY: This notice announces a meeting of the Advanced Scientific Computing Advisory Committee (ASCAC). The Federal Advisory Committee Act (Pub. L. 92-463, 86 Stat. 770) requires that public notice of these meetings be announced in the Federal Register.

DATES: Tuesday, September 3, 2013, 12:00 p.m. to 3:00 p.m.

ADDRESSES: The meeting is open to the public. To access the call:

1. Dial Toll-Free Number: 866-740-1260 (U.S. & Canada)

2. International participants dial: http://www.readytalk.com/intl

3. Enter access code 8083012, followed by “#”

To ensure we have sufficient access lines for the public, we request that members of the public notify the DFO, Christine Chalk that you intend to call-into the meeting via email at: christine.chalk@science.doe.gov.

FOR FURTHER INFORMATION CONTACT: Melea Baker, Office of Advanced Scientific Computing Research; SC-21/Germantown Building; U. S. Department of Energy; 1000 Independence Avenue SW; Washington, DC 20585-1290; Telephone (301)-903-7486; Email: Melea.Baker@science.doe.gov.

SUPPLEMENTARY INFORMATION:

Purpose of the Meeting: The purpose of this meeting is to discuss progress of the subcommittee for the exascale challenges charge.

Tentative Agenda: Agenda will include discussion of the following:

• Exascale Challenges Workshop and preliminary list of most critical challenges, and technical approaches to resolving these.

Public Participation: The teleconference meeting is open to the public. If you would like to file a written statement with the Committee, you may do so either before or after the meeting. If you would like to make oral statements regarding any of the items on the agenda, you should contact Melea Baker via FAX at 301-903-4846 or via email at: (Melea.Baker@science.doe.gov). You must make your request for an oral statement at least five business days prior to the meeting. Reasonable provisions will be made to include the scheduled oral statements on the agenda. The Chairperson of the Committee will conduct the meeting to facilitate the orderly conduct of business. Public comment will follow the 10-minute rule.

Minutes: The minutes of this meeting will be available for public review and copying within 60 days by contacting Melea Baker at the address or email listed above.

Issued in Washington, DC on August 13, 2013.
LaTanya R. Butler,
Deputy Committee Management Officer.

[FR Doc. 2013-20135 Filed 8-16-13; 8:45 am]

BILLING CODE 6450-01-P